DEPARTMENT OF TRANSPORTATION

Federal Aviation Administration

14 CFR Part 97

[Docket No. 30828 ; Amdt. No. 3466 ]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 1, 2012. The compliance date for each SIAP, associated Takeoff Minimums, and ODP is specified in the amendatory provisions.

The incorporation by reference of certain publications listed in the regulations is approved by the Director of the Federal Register as of March 1, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK. 73169 (Mail Address: P.O. Box 25082, Oklahoma City, OK 73125) Telephone: (405) 954-4164.

SUPPLEMENTARY INFORMATION: This rule amends Title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26,1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on February 17, 2012.
John McGraw,
Deputy Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 5 APR 2012

Petersburg, AK, Petersburg James A Johnson, RNAV (GPS)-B, Orig-A

Burbank, CA, Bob Hope, ILS OR LOC Z RWY 8, Amdt 37

Burbank, CA, Bob Hope, LOC Y RWY 8, Amdt 4

Colorado Springs, CO, City of Colorado Springs Muni, Takeoff Minimums and Obstacle DP, Amdt 10

Craig, CO, Craig-Moffat, Takeoff Minimums and Obstacle DP, Amdt 4

Durango, CO, Durango-La Plata County, VOR/DME RWY 3, Amdt 5

Pueblo, CO, Pueblo Memorial, Takeoff Minimums and Obstacle DP, Amdt 5

Dunnellon, FL, Marion County, GPS RWY 23, Orig-B, CANCELLED

Dunnellon, FL Marion County, RNAV (GPS) RWY 23, Orig

Inverness, FL, Inverness, RNAV (GPS) RWY 1, Orig

Inverness, FL, Inverness, RNAV (GPS) RWY 19, Orig

Inverness, FL, Inverness, Takeoff Minimums & Obstacle DP, Orig

Jacksonville, FL, Herlong Recreational, GPS RWY 25, Orig, CANCELLED

Jacksonville, FL, Herlong Recreational, RNAV (GPS) RWY 25, Orig

Jacksonville, FL, Herlong Recreational, Takeoff Minimums and Obstacle DP, Amdt 2

Miami, FL, Miami Intl, ILS OR LOC RWY 8R, Amdt 30B

Hilo, HI, Hilo Intl, ILS OR LOC RWY 26, Amdt 13

Mapleton, IA, James G Whiting Memorial Field, NDB RWY 20, Amdt 5

Osceola, IA, Osceola Muni, GPS RWY 18, Orig, CANCELLED

Osceola, IA, Osceola Muni, GPS RWY 36, Orig, CANCELLED

Osceola, IA, Osceola Muni, RNAV (GPS) RWY 18, Orig

Osceola, IA, Osceola Muni, RNAV (GPS) RWY 36, Orig

De Kalb, IL, De Kalb Taylor Muni, ILS OR LOC RWY 2, Orig-B

De Kalb, IL, De Kalb Taylor Muni, NDB RWY 27, Orig, CANCELLED

Hazard, KY, Wendell H. Ford, Takeoff Minimums and Obstacle DP, Amdt 3

Somerset, KY, Lake Cumberland Rgnl, Takeoff Minimums and Obstacle DP, Amdt 4

Dexter, ME, Dexter Rgnl, Takeoff Minimums and Obstacle DP, Amdt 1

Grand Ledge, MI, Abrams Muni, Takeoff Minimums and Obstacle DP, Amdt 3

Billings, MT, Billings Logan Intl, ILS OR LOC RWY 10L, Amdt 25

Billings, MT, Billings Logan Intl, RNAV (GPS) RWY 10L, Amdt 2

Billings, MT, Billings Logan Intl, RNAV (GPS) RWY 28R, Amdt 2

Billings, MT, Billings Logan Intl, Takeoff Minimums & Obstacle DP, Amdt 6

Billings, MT, Billings Logan Intl, VOR-A, Amdt 2

Billings, MT, Billings Logan Intl, VOR/DME RWY 28R, Amdt 14

Pinehurst/Southern Pines, NC, Moore County, RNAV (GPS) RWY 5, Orig

Gordon, NE., Gordon Muni, NDB RWY 22, Amdt 4

Grant, NE., Grant Muni, VOR/DME RWY 15, Amdt 1

Saratoga Springs, NY, Saratoga County, RNAV (GPS) RWY 5, Amdt 1B

Kenton, OH, Hardin County, VOR-A, Amdt 4, CANCELLED

Shelby, OH, Shelby Community, Takeoff Minimums and Obstacle DP, Amdt 2

Carlisle, PA, Carlisle, RNAV (GPS)—C, Orig

Carlisle, PA, Carlisle, Takeoff Minimums and Obstacle DP, Amdt 1

Dubois, PA, Dubois Rgnl, ILS OR LOC RWY 25, Amdt 9A

Lancaster, PA, Lancaster, RNAV (GPS) RWY 13, Amdt 1

Philadelphia, PA, Northeast Philadelphia, RNAV (GPS) RWY 15, Amdt 1

Philadelphia, PA, Northeast Philadelphia, RNAV (GPS) RWY 33, Amdt 1

Dallas-Fort Worth, TX, Dallas/Fort Worth International, Takeoff Minimums and Obstacle DP, Amdt 5

Mexia, TX, Mexia-Limestone Co, GPS RWY 36, Orig-A, CANCELLED

Mexia, TX, Mexia-Limestone Co, NDB-A, Amdt 4

Mexia, TX, Mexia-Limestone Co, RNAV (GPS) RWY 36, Orig

Monahans, TX, Roy Hurd Memorial, VOR/DME RWY 12, Amdt 1B

Rockport, TX, Aransas County, NDB RWY 14, Amdt 1, CANCELLED

Vernon, TX, Wilbarger County, NDB RWY 20, Amdt 1, CANCELLED

Milford, UT, Milford Muni/Ben and Judy Briscoe Field, RNAV (GPS) RWY 16, Orig

Milford, UT, Milford Muni/Ben and Judy Briscoe Field, RNAV (GPS) RWY 34, Orig

Milford, UT, Milford Muni/Ben and Judy Briscoe Field, Takeoff Minimums and Obstacle DP, Amdt 2

Milford, UT, Milford Muni/Ben and Judy Briscoe Field, VOR/DME-A, Amdt 4

Emporia, VA, Emporia-Greensville Rgnl, LOC RWY 33, Amdt 1

Emporia, VA, Emporia-Greensville Rgnl, RNAV (GPS) RWY 15, Amdt 1

Emporia, VA, Emporia-Greensville Rgnl, RNAV (GPS) RWY 33, Amdt 1

Luray, VA, Luray Caverns, NDB-A, Amdt 7

Luray, VA, Luray Caverns, RNAV (GPS) RWY 4, Orig

Luray, VA, Luray Caverns, RNAV (GPS) RWY 22, Amdt 1

Luray, VA, Luray Caverns, VOR/DME-B, Amdt 3

Norfolk, VA, Norfolk Intl, ILS OR LOC RWY 5, Amdt 26

Norfolk, VA, Norfolk Intl, RNAV (GPS) Z RWY 5, Amdt 1A

Norfolk, VA, Norfolk Intl, RNAV (RNP) Y RWY 5, Orig-A

Warrenton, VA, Warrenton-Fauquier, LOC/DME RWY 15, Orig

Warrenton, VA, Warrenton-Fauquier, RNAV (GPS) RWY 15, Amdt 1

Warrenton, VA, Warrenton-Fauquier, RNAV (GPS) RWY 33, Orig

Charlotte Amalie, VQ, Cyril E King, RNAV (GPS) RWY 10, Amdt 1B

[FR Doc. 2012-4638 Filed 2-29-12; 8:45 am]

BILLING CODE 4910-13-P